EXPORT-IMPORT BANK

[Public Notice: 2013-3005]

Agency Information Collection Activities: Comment Request

AGENCY: Export-Import Bank of the United States.

ACTION: Submission for OMB review and comments request.

Form Title: EIB 92-34 Application for Short-Term Letter of Credit Export Credit Insurance Policy.

SUMMARY: The Export-Import Banks of the United States (Ex-Im Bank), as part of its continuing effort to reduce paperwork and respondent burden, invites the general public and other Federal Agencies to comment on the proposed information collection, as required by the Paperwork Reduction Act of 1995.

This collection of information is necessary, pursuant to 12 U.S.C. 635(a)(1), to determine eligibility of the applicant for Ex-Im Bank assistance.

The Application for Short Term Letter of Credit Export Credit Insurance Policy is used to determine the eligibility of the applicant and the transaction for Export-Import Bank assistance under its insurance program. Export-Import Bank customers are able to submit this form on paper or electronically.

The application tool can be reviewed at: http://www.exim.gov/pub/pending/eib92-34.pdf.

DATES: Comments must be received on or before December 18, 2013 to be assured of consideration.

ADDRESSES: Comments may be submitted electronically on WWW.REGULATIONS.GOV (EIB-2013-0046) or by mail to Office of Information and Regulatory Affairs, 725 17th Street NW., Washington, DC 20038, Attn: OMB 3048-EIB92-34.

SUPPLEMENTARY INFORMATION:

Title and Form Number: EIB 92-34 Application for Short-Term Letter of Credit Export Credit Insurance Policy.

OMB Number: 3048-0009.

Type of Review: Regular.

Need and Use: This form is used by a financial institution (or broker acting on its behalf) to obtain approval for coverage of a short-term letter of credit. The information allows the Ex-Im Bank staff to make a determination of the eligibility of the applicant and transaction for Ex-Im Bank assistance under its programs.

Affected Public: This form affects entities involved in the export of U.S. goods and services.

Annual Number of Respondents: 11.

Estimated Time per Respondent: 1 hr.

Annual Burden Hours: 11.

Frequency of Reporting of Use: On occasion.

Government Reviewing Time per Year: 11 hours.

Average Wages per Hour: $42.50.

Average Cost per Year: $468 (time*wages).

Benefits and Overhead: 20%.

Total Government Cost: $598.

Kalesha Malloy,
Agency Clearance Officer.

[FR Doc. 2013-27521 Filed 11-15-13; 8:45 am]

BILLING CODE 6690-01-P